DEPARTMENT OF THE INTERIOR

Bureau of Land Management

[LLAK927000 L54200000 FR0000 LVDIL09L0410; FF-94683]

Notice of Application for a Recordable Disclaimer of Interest for Lands Underlying the Tanana River in Alaska

AGENCY: Bureau of Land Management, Interior.

ACTION: Notice.

SUMMARY: The State of Alaska has filed an application with the Bureau of Land Management (BLM) for a Recordable Disclaimer of Interest from the United States in those lands underlying the Tanana River in Interior Alaska. The State asserts that the Tanana River was navigable and unreserved at the time of Statehood; therefore title to the submerged lands passed to the State at the time of Statehood (1959).

DATES: All comments to this action should be received on or before July 28, 2010.

ADDRESSES: Comments on the State of Alaska's application or the BLM Draft Summary Report must be filed with the Chief, Branch of Survey Planning and Preparation (AK-927), Division of Cadastral Survey, BLM Alaska State Office, 222 W. 7th Avenue, #13, Anchorage, Alaska 99513-7599.

FOR FURTHER INFORMATION CONTACT: Callie Webber, Navigability Section Chief, at the above address, (907) 271-3167, or cwebber@blm.gov, or visit the BLM Recordable Disclaimer of Interest Web site at http://www.blm.gov/ak/st/en/prog/rdi.html.

SUPPLEMENTARY INFORMATION: On March 10, 2006, the State of Alaska filed an application for a Recordable Disclaimer of Interest pursuant to section 315 of the Federal Lands Policy and Management Act and the regulations contained in 43 CFR subpart 1864 for the lands underlying the Tanana River (FF-94683). A Recordable Disclaimer of Interest, if issued, will confirm that the United States has no valid interest in the subject lands. The notice is intended to notify the public of the pending application and the State's reasons for supporting it. The State asserts that this river was navigable at the time of Statehood, and therefore, ownership of the lands underlying the river automatically passed from the United States to the State at the time of Statehood in 1959, pursuant to the Equal Footing Doctrine, the Submerged Lands Act of 1953, the Submerged Lands Act of 1988, the Alaska Statehood Act, or any other legally cognizable reason.

The State's application, FF-94683, is for “all submerged lands lying within the bed of the Tanana River, between the ordinary high water lines of the left and right banks from its origins at the confluence with the Chisana and the Nabesna Rivers within Section 29 and 30, Township 15 North, Range 19 East, Copper River Meridian, Alaska, flowing generally northwesterly to all points of confluence with the Yukon River in Section 23, Township 4 North, Range 22 West, Fairbanks Meridian, Alaska.” The State did not identify any known adverse claimant or occupant of the affected lands.

A final decision on the merits of the application will not be made before July 28, 2010. During the 90-day period, interested parties may comment on the State's application, FF-94683, and supporting evidence. Interested parties may also comment during this time on the BLM's Draft Summary Report.

Comments, including names and street addresses of commenters, will be available for public review at the Alaska State Office (see ADDRESSES above), during regular business hours 7:30 a.m. to 4:30 p.m., Monday through Friday, except holidays.

Before including your address, phone number, e-mail address, or other personal identifying information in your comment, you should be aware that your entire comment—including your personal identifying information—may be made publicly available at any time. While you can ask us in your comment to withhold your personal identifying information from public review, we cannot guarantee that we will be able to do so.

If the evidence is sufficient to find a determination of navigability for title purposes, and the records do not disclose a reason not to issue the disclaimer, and there is no valid objection by another Federal agency, then the application may be approved.

Authority: 43 CFR subpart 1864.

Michael H. Schoder,
Deputy State Director, Division of Cadastral Survey.

[FR Doc. 2010-10014 Filed 4-28-10; 8:45 am]

BILLING CODE 4310-JA-P